DEPARTMENT OF HOMELAND SECURITY

Bureau of Customs and Border Protection

Notice of Cancellation of Customs Broker Permit

AGENCY: Bureau of Customs and Border Protection, Department of Homeland Security.

ACTION: General notice.

SUMMARY: Pursuant to section 641 of the Tariff Act of 1930, as amended, (19 U.S.C. 1641) and the Customs Regulations (19 CFR 111.51), the following Customs broker local permits are canceled without prejudice.

Name | Permit # | Issuing port
Jill R. Ellsworth, Phoenix International | 35-01-066 | Minneapolis.
Freight Services, Inc. | 163 | Seattle.
Daniel Delgado-White | 88-57 | Buffalo.
Robert Stein | 88-52 | Buffalo.
Thomas Iuppa | 88-51 | Buffalo.
Neill F. Stroth | 28-01-DZ8 | San Francisco.

Dated: March 11, 2003.
Jayson P. Ahern,
Assistant Commissioner, Office of Field Operations.

[FR Doc. 03-7724 Filed 3-31-03; 8:45 am]

BILLING CODE 4820-02-P